DEPARTMENT OF JUSTICE

National Institute of Corrections

Solicitation for a Cooperative Agreement—Videotape: Community Education on Jails

AGENCY: National Institute of Corrections, Department of Justice.

ACTION: Solicitation for a cooperative agreement.

SUMMARY: The National Institute of Corrections, Jail Division, is seeking applications for the development of a broadcast quality videotape on the basic issues, functions, and roles common to local jails.

Background

Historically, jails have functioned in relative obscurity within their own communities. Although the community may generally acknowledge the need for a jail, the jail itself is ignored; kept out of sight and out of mind. The community wants only to know that dangerous criminals are removed from the streets and locked away. And, although jail practitioners decry the community's lack of knowledge, they have done little to remedy this. Traditionally, jail administrators have focused to intently on their internal role in the jail that they have neglected their role external to the jail—fostering public understanding of and involvement with jail issues and operations. As a result, jails, which should be viewed as a community service, are, in fact, isolated from their communities.

As a result of this isolation, the public shapes its perceptions of the jail, staff, and inmates from negative images presented in film and television drama. Jails are portrayed as dirty and dangerous, and jail staff as lazy, incompetent, and meanspirited. Inmates are portrayed as either dangerous and inhuman or valiant warriors against the system. This unflattering perception is then compounded if negative events force the jail to the forefront of the news.

The jail's isolation does a disservice to the community and to the jail itself. The jail belongs to the community and should reflect the community's values, both in its role in the criminal justice system and in its internal operations. This, however, is not possible if the community has no understanding of the jail, and no inclination to learn, given the negative image it has. When local government officials do not understand the role of the jail and the complexity of its operations, they are likely to underfund even basic functions, often creating dangerous and unhealthy conditions in the facility and putting the community at risk. This, then, leads to a high degree of liability, and the local government may find itself the target of a costly lawsuit. Jails struggle to find and retain qualified staff, but recruiting quality staff is close to impossible when the jail is viewed as a most undesirable work environment. The inadequate staffing levels and the poorly qualified staff in many jails only compound liability issues.

Project Objectives

A primary remedy for the problems faced by jails is public education. This videotape will be a highly effective tool for jail administrators and sheriffs embarking on an education program for the community. The video format will be a visual counterpoint to existing public perceptions, providing specific information about the role and operation of the jail, the work and commitment of the staff, and the identity and needs of the inmates. The video format will also allow the message to be portrayed easily to various community members, including business people, educators, local officials, and general community groups. The videotape will provide the foundation for the efforts of sheriffs and jail administrators to inform the public about jails generally, their jail specifically, and the need for community involvement in the jail.

Scope of Work

Videotape Length: About 30 minutes.

Videotape Audience: Local community members and local officials.

Use of Videotape: The videotape will be used as a tool to educate its audience about local jails. It will be shown to local community members and local officials. Sheriffs and jail administrators will use the videotape as a foundation to inform the audience about jails generally, their jails specifically, and the need for community involvement in the jail.

Videotape Distribution: NIC expects to widely distribute the videotape. It will be made available, upon request and free of charge, through the NIC Information Center. Local officials, detention practitioners, professional corrections organizations, private corrections consultants, and professionals in related fields will be able to request the use of this videotape.

Videotape Content: The videotape will provide specific information about the role and operations of jails, introducing some differences among jails in the United States and highlighting the things that all jails have in common. These commonalities include basic functions, complexity of operations, and chronic needs and problems. The videotape will also provide information about the work of jail staff and the characteristics of inmates. It will illustrate information through professional narration, interviews, graphics, animation, scenes from jails, and/or other strategies designed to most effectively demonstrate concepts.

Project Description: The production company will see the videotape production through from beginning to end. The company is expected to provide the staff, equipment, and other resources necessary to script-writing, directing, producing, filming, off-line editing, on-line editing, and all other activities necessary to videotape production.

The production company is asked to assign one staff to oversee the project and work closely with NIC staff on all phases of videotape production. NIC staff must review and approve the treatment, scripting, creative ideas, filming sites, shooting days, persons interviewed, music, graphics, animation, editing, and screening dates. NIC staff will have all editing rights and final approval of rough drafts. NIC staff will accompany the film crew to at least two of the filming sites.

In general, NIC staff will work closely with the production company throughout the project to make sure personnel understand the role of the local jail and that information is portrayed accurately in every detail of the videotape. NIC staff will be available to the production company to assist with questions or problems that arise. It is important, therefore, that the production company staff are readily available for in-person meetings with NIC staff, some at short notice.

This project will require research to locate historic photographs and footage to illustrate changes in conditions and requirements for local jails. This project will also require travel to film at up to five jail sites. These sites will be determined by NIC staff, and will be located throughout the United States, including the Northeast, Southeast, Midwest, Southwest, and West. At each site, filming will include exterior views of the jail, various interior views of the jail, and interviews with up to eight individuals, including county commissioners, judges, sheriffs, jail administrators, jail staff, and community members. NIC staff will coordinate the filming with each jail site. Filming at each site may require 2-3 days, not including travel time. In addition, this project will require filming of up to four interviews in Longmont, Colorado.

The production company will videotape in betacam or digital format. Once the videotape is completed, the production company will provide NIC one broadcast quality (betacam or digital) master, 100 copies of the tape in VHS format, with sleeves and coded with the Department of Justice seal, and one digitized videotape for broadcast, on CD ROM, to be placed on the NIC web page. All videotape used in this production is the property of the U.S. Government and is to be delivered to NIC upon completion of this project.

Production Schedule: The list below shows the major activities required to complete the project. Videotape production will begin upon award of this agreement and must be completed ten months after the award date. The schedule for completion of activities should include the following, at a minimum.

• Production company's kickoff meeting with NIC staff for a project overview;

• Production company's review of materials provided by NIC;

• Production company's research of roles and functions of jails;

• Production company's tour of a jail (arranged through NIC staff);

• NIC project staff develops an outline of key concepts to be included in videotape with suggestions for illustrating;

• Scripted treatment;

• Script written and presented to NIC for approval;

• Script revisions and NIC staff's final approval;

• Filming and interviews scheduled and coordinated with sites and NIC staff;

• Story board developed and presented to NIC staff for review;

• Story board revisions and NIC staff's final approval;

• Filming;

• Off-line editing;

• Screening of off-line edit by production company and NIC staff;

• On-line graphics/animation planned, then presented to and approved by NIC staff;

• On-line graphics/animation created;

• On-line narration reordered;

• On-line edit;

• On-line screening by production company and NIC staff;

• Review and approval of final edit by NIC staff;

• Final products delivered.

Authority: Public Law 93-415.

Funds Available

The award will be limited to $125,000 (direct and indirect costs) and project activity must be completed within ten months of the date of award. Funds may not be used for construction, or to acquire or build real property. This project will be a collaborative venture with the NIC Jails Division.

Application Procedures

Applications must be submitted in six copies to the Director, National Institute of Corrections, 320 First Street, NW, Room 5007, Washington, DC 20534. At least one copy of the application must have the applicant's original signature in blue ink. A cover letter must identify the responsible audit agency for the applicant's financial accounts.

Applications must be prepared according to the procedures given in the NIC Guideline Manual: Instructions for Applying for Federal Assistance and must be submitted on OMB Standard Form 424, Federal Assistance. The applications should be concisely written, typed double-spaced, and referenced to the project by the number and title given in this cooperative agreement announcement.

The narrative portion of this grant application should include, at a minimum:

• A brief paragraph that indicates the applicant's understanding of the purpose of the videotape and the issues to be addressed;

• A brief paragraph that summarizes the project goals and objectives;

• A clear description of the methodology that will be used to complete the project and achieve its goals;

• A statement or chart of measurable project milestones and time lines for the completion of each;

• A description of the staffing plan for the project, including the role of each project staff, the time commitment for each, the relationship among the staff (who reports to whom), and an indication that all required staff will be available;

• A description of the qualifications of the applicant organization and each project staff;

• A budget that details all costs for the project, shows consideration for all contingencies for this project, and notes a commitment to work within the budget proposed (budget should be divided into object class categories as shown on application Standard Form 424A).

Documentation of the principal's and associate's relevant knowledge, skills, and abilities to carry out the described tasks must be included in the application. The application must be accompanied by a resume of the applicant's work and a brief sample(s) of completed video productions. The applicant organization must specify its roles in the production of the sample videos.

Deadline for Receipt of Applications: Applications must be received by 4:00 p.m. on Monday, July 17, 2000. They should be addressed to Director, National Institute of Corrections, 320 First Street, NW, Room 5007, Washington, DC 20534. Hand delivered applications should be brought to 500 First Street, NW, Washington, DC 20534. The front desk will call Bobbi Tinsley at (202) 307-3106, extension 0 for pickup.

Addresses and Further Information: Requests for the application kit should be directed to Judy Evens, Cooperative Agreement Control Office, National Institute of Corrections, 320 First Street, NW, Room 5007, Washington, DC 20534 or by calling 800-995-6423, ext. 159, 202-307-3106, ext. 159, or email: jevens@bop.gov. A copy of this announcement, application forms, and additional information may also be obtained through the NIC web site: http://www.nicic.org (click on “What's New” and “Cooperative Agreements”). All technical and/or programmatic questions concerning this announcement should be directed to Kris Keller at 1960 Industrial Circle, Longmont, CO 80501, or by calling 800-995-6429, ext. 119 or 303-682-0382, ext. 119, or by email: kdkeller@bop.gov.

Eligibility Applicants: An eligible applicant is any state or general unit of local government, public or private agency, educational institution, organization, team, or individual with requisite skills to successfully meet the outcome objectives of the project.

Review Considerations: Applications received under this announcement will be subjected to a NIC three to five member Peer Review Process. Among the criteria used to evaluate the applications are:

• Indication of a clear understanding of the project requirements;

• Background, experience, and expertise of the proposed project staff, including any subcontractors;

• Previous video production experience with local jails;

• Effectiveness of the creative approach to the project;

• Clear, concise description of all elements and tasks of the project, with sufficient and realistic time frames necessary to complete the tasks;

• Technical soundness of project design and methodology;

• Financial and administrative integrity of the proposal, including adherence to federal financial guidelines and processes;

• Sufficiently detailed budget that shows consideration of all contingencies for this project and commitment to work within the budget proposed;

• Indication of availability to meet with NIC staff, possibly at short notice, at key points in videotape production (at a minimum, those listed under “Project Description”).

Number of Awards: One (1).

NIC Application Number: 00J01 Videotape Community Education on Jails. This number should appear as a reference line in your cover letter and also in box 11 of Standard Form 424.

Catalog of Federal Domestic Assistance Number: 16.601
Dated: May 26, 2000.
Morris L. Thigpen,
Director, National Institute of Corrections.

[FR Doc. 00-13665 Filed 5-31-00; 8:45 am]

BILLING CODE 4410-36-M